DEPARTMENT OF THE INTERIOR

Bureau of Land Management

[WYW 0118976]

Public Land Order No. 7680; Revocation of Public Land Order No. 2695; Wyoming

AGENCY: Bureau of Land Management, Interior.

ACTION: Public land order.

SUMMARY: This order revokes a Public Land Order in its entirety insofar as it affects 1,205.42 acres of public lands in Carbon County, Wyoming, withdrawn on behalf of the Bureau of Reclamation for the Savery-Pot Hook Project. The Public Land Order has previously been revoked in part and the lands remaining are no longer needed for the purpose for which they were withdrawn.

DATES: Effective Date: October 15, 2007.

FOR FURTHER INFORMATION CONTACT: Janet Booth, BLM Wyoming State Office, 5353 North Yellowstone Road, Cheyenne, Wyoming 82003, 307-775-6124.

SUPPLEMENTARY INFORMATION: The Savery-Pot Hook Project was never developed and the lands are no longer needed for reclamation purposes. The lands will not be opened to surface entry or mining until completion of an analysis to determine if any of the lands need special designation. The lands have been and will remain open to mineral leasing.

Order

By virtue of the authority vested in the Secretary of the Interior by Section 204 of the Federal Land Policy and Management Act of 1976, 43 U.S.C. 1714 (2000), it is ordered as follows:

Public Land Order No. 2695 (27 FR 5708), which withdrew 1,485.45 acres on behalf of the Bureau of Reclamation for the Savery-Pot Hook Project, is hereby revoked in its entirety as to any remaining lands.

Dated: August 22, 2007.
C. Stephen Allred,
Assistant Secretary—Land and Minerals Management.

[FR Doc. E7-18055 Filed 9-12-07; 8:45 am]

BILLING CODE 4310-MN-P